DEPARTMENT OF ENERGY

Federal Energy Regulatory Commission

[Project Nos. 4204-038, 4660-043 and 4659-042]

City of Batesville and Independence County Arkansas; Notice of Availability of Environmental Assessment

August 15, 2005.

In accordance with the National Environmental Policy Act of 1969 and the Federal Energy Regulatory Commission's (Commission) regulations, 18 CFR Part 380 (Order No. 486, 52 FR 47897), the Office of Energy Projects has reviewed the application for license amendments for the White River Lock and Dam No. 1 Project (P-4204), White River Lock and Dam No. 2 Project (P-4660) and the White River Lock and Dam No. 3 Project (P-4659), and has prepared an Environmental Assessment (EA) for the projects. On August 12, 2005, the Order Approving Revised Transmission Line Routes was issued and the EA was attached. The projects are located on the White River in Independence County, Arkansas.

The EA contains the staff's analysis of the potential environmental impacts of the projects and concludes that issuing the amendments, with appropriate environmental protective measures, would not constitute a major federal action that would significantly affect the quality of the human environment.

The EA is on file with the Commission and is available for public inspection. Copies of the EA are available for review in Public Reference, Room 2-A at the Commission's offices at 888 First Street, NE., Washington, DC. The EA may also be viewed on the Commission's Web site at http://www.ferc.gov using the “eLibrary” link. For assistance, contact FERC On Line Support at FERCOnlineSupport@ferc.gov or call toll free at (866) 208-3676, or for TTY contact (202) 502-8659.

For further information, please contact Andrea Shriver at (202) 502-8171.

Magalie R. Salas,
Secretary.

[FR Doc. E5-4577 Filed 8-22-05; 8:45 am]

BILLING CODE 6717-01-P